NATIONAL AERONAUTICS AND SPACE ADMINISTRATION

[Notice: 24-017]

NASA Advisory Council; Science Committee; Meeting

AGENCY: National Aeronautics and Space Administration.

ACTION: Notice of meeting.

SUMMARY: In accordance with the Federal Advisory Committee Act, as amended, the National Aeronautics and Space Administration (NASA) announces a meeting of the Science Committee of the NASA Advisory Council (NAC). This Committee reports to the NAC. The meeting will be held for the purpose of soliciting, from the scientific community and other persons, scientific and technical information relevant to program planning.

DATES: Monday, March 25, 2024, 10:00 a.m.-4:30 p.m., Eastern Time.

ADDRESSES: Public attendance will be virtual only. See dial-in and Webex information below under SUPPLEMENTARY INFORMATION.

FOR FURTHER INFORMATION CONTACT: Ms. KarShelia Kinard, Science Mission Directorate, NASA Headquarters, Washington, DC 20546, (202) 358-2355 or karshelia.kinard@nasa.gov.

SUPPLEMENTARY INFORMATION: As noted above, this meeting is virtual and will take place telephonically and via Webex. Any interested person must use a touch-tone phone to participate in this meeting. The Webex connectivity information for each day is provided below. For audio, when you join the Webex event, you may use your computer or provide your phone number to receive a call back, otherwise, call the U.S. toll conference number listed for each day.

On Monday, March 25, the event address for attendees is: https://nasaevents.webex.com/nasaevents/j.php?MTID=m126693463ff0b0b0024aa7349f9250cb.

The event number is 2830 040 7491 and the event password is JMnk7EmP7Z6 (56657367 from phones and video systems). If needed, the U.S. toll conference number is 1-415-527-5035 and the access code is 283 004 07491.

The agenda for the meeting includes the following topics:

—Science Mission Directorate (SMD) Missions, Programs and Activities

It is imperative that the meeting be held on these dates due to the scheduling priorities of the key participants.

Carol J. Hamilton,
Acting, Advisory Committee Management Officer, National Aeronautics and Space Administration.

[FR Doc. 2024-05129 Filed 3-12-24; 8:45 am]

BILLING CODE 7510-13-P